NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by May 24, 2013. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application: 2014-001.

1. Applicant: Ron Naveen, Oceanites, Inc., P.O. Box 15259, Chevy Chase, MD 20825.

Activity for Which Permit Is Requested

Enter Antarctic Specially Protected Areas (ASPA's). The applicant intends to conduct censusing/surveying visitor sites and penguin/seabird breeding locations in the Antarctic Peninsula. Various sites are censused/surveyed each austral spring/summer and may involve infrequent and minimal disturbances to resident fauna such as: Adelie, Chinstrap, Gentoo penguins, Southern giant petrels, Southern Fulmars, Cape Petrels, Antarctic blue-eyed shags, Antarctic Brown skuas, South polar skuas, Kelp gulls, and Antarctic Terns. Analyses flowing from the Antarctic Site Inventory (ASI) fieldwork encompass the entire Antarctic Peninsula. Antarctic Site Inventory censuses/surveys may also include occasional visits to Antarctica Specially Protected Areas such as: ASPA 107-Emperor Island, ASPA 108-Green Island, ASPA 109-Moe Island, ASPA 110-Lynch Island, ASPA 111-Powell Island, ASPA 112-Coppermine Peninsula, ASPA 113-Litchfield Island, ASPA 114-Northern Coronation Island, ASPA 115-Lagotellerie Island, APA 117-Avian Island, ASPA 125-Fildes Peninsula, ASPA 126-Byers Peninsula, ASPA 128-Western Shore of Admiralty Bay, ASPA 129-Rothera Point, ASPA 132-Potter Peninsula, ASPA 133-Harmony Point, ASPA 134-Cierva Point, ASPA 139-Biscoe Point, ASPA 140-Parts of Deception Island, ASPA 144-“Chile Bay” (Discovery Bay), ASPA 145-Port Foster, ASPA 146-South Bay, ASPA 148-Mount Flora, ASPA 149-Cape Shirreff and San Telmo Island, ASPA 150-Ardley Island, ASPA 151-Lions Rump, ASPA 152-Western Bransfield Strait, and/or ASPA 153-Eastern Dallmann Bay.

Location

Antarctic Peninsula region, Palmer Station area including ASPA 107-Emperor Island, ASPA 108-Green Island, ASPA 109-Moe Island, ASPA 110-Lynch Island, ASPA 111-Powell Island, ASPA 112-Coppermine Peninsula, ASPA 113-Litchfield Island, ASPA 114-Northern Coronation Island, ASPA 115-Lagotellerie Island, APA 117-Avian Island, ASPA 125-Fildes Peninsula, ASPA 126-Byers Peninsula, ASPA 128-Western Shore of Admiralty Bay, ASPA 129-Rothera Point, ASPA 132-Potter Peninsula, ASPA 133-Harmony Point, ASPA 134-Cierva Point, ASPA 139-Biscoe Point, ASPA 140-Parts of Deception Island, ASPA 144-“Chile Bay” (Discovery Bay), ASPA 145-Port Foster, ASPA 146-South Bay, ASPA 148-Mount Flora, ASPA 149-Cape Shirreff and San Telmo Island, ASPA 150-Ardley Island, ASPA 151-Lions Rump, ASPA 152-Western Bransfield Strait, and/or ASPA 153-Eastern Dallmann Bay

Dates

September 1, 2013 to August 31, 2018.

Nadene G. Kennedy,
Permit Officer, Office of Polar Programs.

[FR Doc. 2013-09559 Filed 4-23-13; 8:45 am]

BILLING CODE 7555-01-P